DEPARTMENT OF THE INTERIOR

Bureau of Land Management

[NV-912-04-1990-PP-241A-006F]

Sierra Front-Northwestern Great Basin Resource Advisory Council; Notice of Meeting Location and Time

AGENCY: Bureau of Land Management, Interior.

ACTION: Notice of meeting location and time for the Sierra Front-Northwestern Great Basin Resource Advisory Council (Nevada).

SUMMARY: In accordance with the Federal Land Policy and Management Act and the Federal Advisory Committee Act of 1972 (FACA), a meeting of the U.S. Department of the Interior, Bureau of Land Management (BLM) Sierra Front-Northwestern Great Basin Resource Advisory Council (RAC), Nevada, will be held as indicated below. Topics for discussion at the meeting will include, but are not limited to: Manager's reports of current field office activities; Recreation Fee Demonstration fees-expenses report and trail compliance monitoring for Sand Mountain Recreation Area; project updates on the North Valleys Water Projects EIS and the Churchill County Resource Management Plan (RMP) Amendment/EIS; status of proposed geothermal and wind energy projects; status of northern Nevada acquisition projects funded under the Southern Nevada Public Lands Management Act; RAC Chair report on the national RAC Chairs meeting held in Phoenix on May 11-13, 2004; and additional topics the council may raise during the meeting.

Date and Time: The RAC will meet on Tuesday, July 27, 2004, from 9 a.m. to 5 p.m., and on Wednesday, July 28, 2004, from 8 a.m. to 3 p.m., at Sturgeon's Ramada Inn & Casino, Center Club Room, 1420 Cornell, Lovelock, Nevada. A field trip for the RAC will be conducted on July 28, 2004, to the Nevada Cement site near Rye Patch Reservoir, Lovelock Indian Cave and its associated Scenic Byway, Rochester Mine, and lunch at either Rye Patch State Recreation Area or Lovelock Cave. All meetings and field trips are open to the public. A general public comment period, where the public may submit oral or written comments to the joint RACs, will be held at 4 p.m. on Tuesday, July 27, 2004.

A final detailed agenda, with any additions/corrections to agenda topics and meeting times, will be available on the internet no later than July 13, 2004, at http://www.nv.blm.gov/rac; hard copies can also be mailed or sent via FAX. Individuals who need special assistance such as sign language interpretation or other reasonable accommodations, or who wish a hard copy of the agenda, should contact Mark Struble, Carson City Field Office, 5665 Morgan Mill Road, Carson City, NV 89701, telephone (775) 885-6107, no later than July 20, 2004.

FOR FURTHER INFORMATION CONTACT: Mark Struble, Public Affairs Officer, BLM—Carson City Field Office, 5665 Morgan Mill Road, Carson City, NV 89701. Telephone: (775) 885-6107. E-mail: mstruble@nv.blm.gov.

Dated: June 3, 2004.
Donald T. Hicks,
Field Office Manager, BLM—Carson City Field Office.

[FR Doc. 04-13008 Filed 6-8-04; 8:45 am]

BILLING CODE 4310-HC-P